DEPARTMENT OF HOMELAND SECURITY

Coast Guard

[CGD08-07-011]

Houston/Galveston Navigation Safety Advisory Committee

AGENCY: Coast Guard, DHS.

ACTION: Notice of meetings.

SUMMARY: The Houston/Galveston Navigation Safety Advisory Committee (HOGANSAC) and its working groups will meet to discuss waterway improvements, aids to navigation, area projects impacting safety on the Houston Ship Channel, and various other navigation safety matters in the Galveston Bay area. All meetings will be open to the public.

DATES: The next meeting of HOGANSAC will be held on Tuesday, May 22, 2007 at 9 a.m. The meeting of the Committee's working groups will be held on Tuesday, May 8, 2007 at 9 a.m. Members of the public may present written or oral statements at either meeting. Requests to make oral presentations or distribute written materials should reach the Coast Guard five (5) working days before the meeting at which the presentation will be made. Requests to have written materials distributed to each member of the committee in advance of the meeting should reach the Coast Guard at least ten (10) working days before the meeting at which the presentation will be made.

ADDRESSES: The full Committee will be held at the Houston Pilots Association, 8150 South Loop East, Houston, Texas 7701-1747, (713) 645-9620. The working groups meeting will be held at the Foret Enterprises, Inc., 15201 East Freeway, Suite 109, Channelview, Texas 77530, (281) 452-9940. This notice is available on the Internet at http://dms.dot.gov.

FOR FURTHER INFORMATION CONTACT: Commander Jerry Torok, Executive Secretary of HOGANSAC, telephone (713) 671-5164, or Lieutenant Jon Stewart, Assistant to the Executive Secretary of HOGANSAC, telephone (713) 678-9001, e-mail jon.d.stewart@uscg.mil. Written materials and requests to make presentations should be sent to Commanding Officer, Sector Houston/Galveston, Attn: LT Stewart, 9640 Clinton Drive, Houston, TX 77029.

SUPPLEMENTARY INFORMATION: Notice of this meeting is given pursuant to the Federal Advisory Committee Act, 5 U.S.C. App. 2.

Agendas of the Meetings

Houston/Galveston Navigation Safety Advisory Committee (HOGANSAC). The tentative agenda includes the following:

(1) Opening remarks by the Committee Sponsor (RADM Whitehead) or the Committee Sponsor's representative, Executive Director (CAPT Diehl) and Chairperson (Ms. Patricia Clark).

(2) Approval of the January 23, 2007 minutes.

(3) Old Business:

(a) Navigation Operations/Maritime Incident Review subcommittee report.

(b) Deep draft Entry Facilitation subcommittee report.

(c) Dredging subcommittee report.

(d) Technology subcommittee report.

(e) Area Maritime Security Committee Liaison's report.

(f) Harbor of Safe Refuge subcommittee report.

(g) HOGANSAC Outreach report.

(h) Maritime Awareness subcommittee report.

(4) New Business:

(a) Presentation of new HOGANSAC Charter—CDR Torok.

Working Groups Meeting. The tentative agenda for the working groups meeting includes the following:

(1) Review and discuss the work completed by each working group.

(2) Put forth any action items for consideration at full committee meeting.

Procedural. Working groups have been formed to examine the following issues: Dredging and related issues, electronic navigation systems, AtoN knockdowns, impact of passing vessels on moored ships, boater education issues, facilitating deep draft movements, mooring infrastructure, and safe refuge during hurricanes. Not all working groups will provide a report at this session. Further, working group reports may not necessarily include discussions on all issues within the particular working group's area of responsibility. All meetings are open to the public. Members of the public may make presentations, oral or written, at either meeting. Requests to make oral or written presentations should reach the Coast Guard five (5) working days before the meeting at which the presentation will be made. If you would like to have written materials distributed to each member of the committee in advance of the meeting, you should send your request along with fifteen (15) copies of the materials to the Coast Guard at least ten (10) working days before the meeting at which the presentation will be made.

Information on Services for the Handicapped: For information on facilities or services for the handicapped or to request special assistance at the meetings, contact the Executive Secretary or Assistant to the Executive Secretary as soon as possible.

Dated: April 26, 2007.
J.R. Whitehead,
Rear Admiral, U.S. Coast Guard, Commander, Eighth Coast Guard District.

[FR Doc. E7-9060 Filed 5-10-07; 8:45 am]

BILLING CODE 4910-15-P